NATIONAL AERONAUTICS AND SPACE ADMINISTRATION

[Notice (11-027)]

NASA Advisory Council; Commercial Space Committee; Meeting

AGENCY: National Aeronautics and Space Administration.

ACTION: Notice of meeting.

SUMMARY: In accordance with the Federal Advisory Committee Act, Public Law 92-463, as amended, the National Aeronautics and Space Administration announces a meeting of the Commercial Space Committee of the NASA Advisory Council.

DATES: April 27, 2011, 2-3:30 p.m., Local Time.

ADDRESSES: NASA Headquarters, 300 E Street, SW., Glennan Conference Center Room 1Q39, Washington, DC 20546.

FOR FURTHER INFORMATION CONTACT: Mr. John Emond, Office of Chief Technologist, National Aeronautics and Space Administration, Washington, DC 20546. Phone 202-358-1686, fax: 202-358-3878, john.l.emond@nasa.gov.

SUPPLEMENTARY INFORMATION: In recognition of an upcoming meeting of the NASA Advisory Council, this Commercial Space Committee meeting will focus on potential observations, findings, and recommendations of the Committee to the NASA Advisory Council regarding NASA's implementation of programs to enable development of commercially viable space transportation capabilities. This deliberation will reflect on fact-finding presentations the Committee has received to date. The Committee may also explore other areas of commercial activities apart from commercial launch and transportation systems in their discussion.

The meeting will be open to the public up to the seating capacity of the room. It is imperative that the meeting be held on this date to accommodate the scheduling priorities of the key participants. Visitors will need to show a valid picture identification such as a driver's license to enter the NASA Headquarters building (West Lobby—Visitor Control Center), and must state that they are attending the NASA Advisory Council Commercial Space Committee meeting in the Glennan Conference Center Room 1Q39 before receiving an access badge. All non-U.S citizens must fax a copy of their passport, and print or type their name, current address, citizenship, company affiliation (if applicable) to include address, telephone number, and their title, place of birth, date of birth, U.S. visa information to include type, number, and expiration date, U.S. Social Security Number (if applicable), and place and date of entry into the U.S., fax to John Emond, NASA Advisory Council, Commercial Space Committee Executive Secretary, FAX: (202) 358-3878, by no later than Wednesday April 13, 2011. To expedite admittance, attendees with U.S. citizenship can provide identifying information 3 working days in advance by contacting John Emond via e-mail at john.l.emond@nasa.gov or by telephone at (202) 358-1686 or fax: (202) 358-3878.

Dated: March 24, 2011.
P. Diane Rausch,
Advisory Committee Management Office, National Aeronautics and Space Administration.

[FR Doc. 2011-7372 Filed 3-29-11; 8:45 am]

BILLING CODE 7510-13-P